NATIONAL AERONAUTICS AND SPACE ADMINISTRATION

[Notice 00-064]

NASA Advisory Council (NAC), Space Science Advisory Committee (SScAC), Sun-Earth Connection Advisory Subcommittee

AGENCY: National Aeronautics and Space Administration.

ACTION: Notice of meeting.

SUMMARY: In accordance with the Federal Advisory Committee Act, Public Law 92-463, as amended, the National Aeronautics and Space Administration announces a meeting of the NASA Advisory Council, Space Science Advisory Committee, Sun-Earth Connection Advisory Subcommittee.

DATES: Tuesday, June, 13, 2000, 8:30 a.m. to 5 p.m.; Wednesday, June, 14, 2000, 8:30 a.m. to 5 p.m.; and Thursday, 15, 2000, 8:30 a.m. to noon.

ADDRESSES: National Aeronautics and Space Administration, 300 E Street, SW, Conference Room 7H46, Washington, DC 20546.

FOR FURTHER INFORMATION CONTACT: George L. Withbroe, Code S, National Aeronautics and Space Administration, Washington, DC 20546, (202) 358-2150.

SUPPLEMENTARY INFORMATION: The meeting will be open to the public up to the capacity of the room. The agenda for the meeting is as follows:

—Wide Field three Camera for Hubble Space Telescope

—Space Data Archiving

—Scientists of the future in Sun-Earth Connection

—Solar Probe Developments

—The Image Mission

It is imperative that the meeting be held on these dates to accommodate the scheduling priorities of the key participants. Visitors will be requested to sign a visitor's register.

Dated: May 30, 2000.
Matthew M. Crouch,
Advisory Committee Management Officer, National Aeronautics and Space Administration.

[FR Doc. 00-14039 Filed 6-5-00; 8:45 am]

BILLING CODE 7510-01-P